DEPARTMENT OF COMMERCE

International Trade Administration

[A-570-836]

Glycine From the People's Republic of China: Rescission of Antidumping Duty Administrative Review; 2020-2021

AGENCY: Enforcement and Compliance, International Trade Administration, Department of Commerce.

DATES: Applicable May 26, 2021.

SUMMARY: The Department of Commerce (Commerce) is rescinding the administrative review of the antidumping duty order on glycine from the People's Republic of China (China) covering the period of review March 1, 2020, through February 28, 2021, based on the timely withdrawal of the request for review.

FOR FURTHER INFORMATION CONTACT: Yang Jin Chun, AD/CVD Operations, Office VI, Enforcement and Compliance, International Trade Administration, U.S. Department of Commerce, 1401 Constitution Avenue NW, Washington, DC 20230; telephone: (202) 482-5760.

Background

On March 1, 2021, Commerce published in the Federal Register a notice of opportunity to request an administrative review of the antidumping duty order on glycine from China covering the period of review March 1, 2020, through February 28, 2021.¹ On March 31, 2021, GEO Specialty Chemicals, Inc. (GEO), a domestic producer of glycine, filed a timely request for review in accordance with section 751(a) of the Tariff Act of 1930, as amended (the Act) and 19 CFR 351.213(b).² Pursuant to this request, and in accordance with 19 CFR 351.221(c)(1)(i), Commerce initiated this administrative review with respect to one company, Baoding Mantong Fine Chemistry Co., Ltd. (Baoding Mantong), on May 5, 2021.³ On May 14, 2021, GEO withdrew its request for this administrative review with respect to Baoding Mantong.⁴

¹ See Antidumping or Countervailing Duty Order, Finding, or Suspended Investigation; Opportunity To Request Administrative Review, 86 FR 11921, 11923 (March 1, 2021).

² See GEO's Letter, “Request for Administrative Review” dated March 31, 2021.

³ See Initiation of Antidumping and Countervailing Duty Administrative Reviews, 86 FR 23925, 23928 (May 5, 2021).

⁴ See Letter from GEO, “Withdrawal of Request for Administrative Review,” dated May 14, 2021.

Rescission of Review

Pursuant to 19 CFR 351.213(d)(1), Commerce will rescind an administrative review, in whole or in part, if the party that requested the review withdraws the request within 90 days of the publication date of the notice of initiation of the requested review. GEO timely submitted a withdrawal of its review request within the 90-day deadline. No other party requested this administrative review. Therefore, in accordance with 19 CFR 351.213(d)(1), we are rescinding this administrative review in its entirety.

Assessment

Commerce will instruct U.S. Customs and Border Protection (CBP) to assess antidumping duties on all appropriate entries of glycine from China. Antidumping duties shall be assessed at rates equal to the cash deposit of estimated antidumping duties required at the time of entry, or withdrawal from warehouse, for consumption, in accordance with 19 CFR 351.212(c)(1)(i). Commerce intends to issue appropriate assessment instructions to CBP 35 days after the date of publication of this notice in the Federal Register.

Notification to Importers

This notice serves as the only reminder to importers, whose entries will be liquidated as a result of this rescission notice, of their responsibility under 19 CFR 351.402(f)(2) to file a certificate regarding the reimbursement of antidumping duties prior to liquidation of the relevant entries during this review period. Failure to comply with this requirement could result in Commerce's presumption that reimbursement of the antidumping duties occurred and the subsequent assessment of double antidumping duties.

Notification Regarding Administrative Protective Order

This notice also serves as a reminder to all parties subject to administrative protective order (APO) of their responsibility concerning the disposition of proprietary information disclosed under APO in accordance with 19 CFR 351.305(a)(3). Timely written notification of the return/destruction of APO materials or conversion to judicial protective order is hereby requested. Failure to comply with the regulations and terms of an APO is a violation which is subject to sanction.

Notification to Interested Parties

This notice is issued and published in accordance with sections 751(a) and 777(i)(1) of the Act and 19 CFR 351.213(d)(4).

Dated: May 20, 2021.
James Maeder,
Deputy Assistant Secretary for Antidumping and Countervailing Duty Operations.

[FR Doc. 2021-11134 Filed 5-25-21; 8:45 am]

BILLING CODE 3510-DS-P